FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201338.

Agreement Name: Caribbean and Central American Emergency Cooperative Working Agreement.

Parties: Crowley Caribbean Services LLC and Crowley Latin America Services, LLC (acting as a single party); King Ocean Services Limited, Inc.; and Seaboard Marine Ltd.

Filing Party: Wayne Rohde; Cozen O'Connor.

Synopsis: The Agreement would authorize the parties to discuss and agree upon the removal of one or more vessels from the Trade or a portion thereof; the coordination of their respective shipping timetables, sailing dates, dates of call, frequency of sailings or calls, and the carrying capacity offered by each of them in the trade between the U.S. Atlantic and Gulf Coasts and Central America. It would also authorize the parties to charter space to/from one another on a voluntary basis. The parties request expedited review.

Proposed Effective Date: 5/7/2020.

Location: https://www2.fmc.gov/FMC.Agreements.Web/Public/AgreementHistory/27486.

Agreement No.: 011666-007.

Agreement Name: West Coast North America/Pacific Islands Vessel Sharing Agreement.

Parties: Maersk A/S and The China Navigation Co. Pte. Ltd.

Filing Party: Wayne Rohde; Cozen O'Connor.

Synopsis: The amendment changes the name of the Maersk entity that is a party to the Agreement from Maersk Line A/S to Maersk A/S.

Proposed Effective Date: 3/23/2020.

Location: https://www2.fmc.gov/FMC.Agreements.Web/Public/AgreementHistory/795.

Dated: March 24, 2020.
Rachel Dickon,
Secretary.

[FR Doc. 2020-06425 Filed 3-26-20; 8:45 am]

BILLING CODE 6730-02-P